DEPARTMENT OF THE TREASURY

Request for Expressions of Interest in Membership on the Federal Insurance Office's Federal Advisory Committee on Insurance

AGENCY: Departmental Offices, Department of the Treasury.

ACTION: Notice.

SUMMARY: The Federal Insurance Office (FIO) within the Department of the Treasury invites the public to submit expressions of interest in serving as members of the Federal Advisory Committee on Insurance (FACI). Submissions must be received by FIO no later than September 30, 2023.

FOR FURTHER INFORMATION CONTACT: John Gudgel, Senior Insurance Regulatory Policy Analyst, Federal Insurance Office, Department of the Treasury, 1500 Pennsylvania Ave. NW, Room 1410 MT, Washington, DC 20220, at (202) 622-1748 (this is not a toll-free number). Persons who have difficulty hearing or speaking may access this number via TTY by calling the toll-free Federal Relay Service at (800) 877-8339.

SUPPLEMENTARY INFORMATION:

Background. FACI, a federal advisory committee of insurance experts, was established in 2011 to provide FIO with nonbinding advice and recommendations and otherwise assist FIO in carrying out its duties and authorities. FIO's duties and authorities are set out in Subpart A of the Federal Insurance Office Act of 2010 (31 U.S.C. 313, et seq.), title V of the Dodd-Frank Wall Street Reform and Consumer Protection Act, Public Law 111-203, 12 U.S.C. 5301 et seq. (July 21, 2010).

FACI's membership is balanced to include a cross-section of representative views of state and non-government persons having an interest in the duties and authorities of FIO, such as: state and tribal insurance regulators and/or officials; industry experts; and consumer advocates, academics, and/or experts in the issues facing insurance consumers, including underserved insurance communities and consumers. More information regarding FACI, including a list of its current members, prior recommendations to FIO, and its organizational documents, is available on the Treasury website.¹

¹ https://home.treasury.gov/policy-issues/financial-markets-financial-institutions-and-fiscal-service/federal-insurance-office/federal-advisory-committee-on-insurance-faci. Additional information related to FACI's recent activities is also available in FIO's most recent Annual Report. See FIO, Annual Report on the Insurance Industry (2022), 4-6, https://home.treasury.gov/system/files/311/2022%20Federal%20Insurance%20Office%20Annual%20Report%20on%20the%20Insurance%20Industry%20%281%29.pdf.

Individuals interested in serving as FACI members should submit an expression of interest including name, organization or affiliation, and contact information (employment address, telephone number, and email address). Submissions should also include a curriculum vitae and a statement describing the individual's interest in serving and willingness to work on the issues addressed by the FACI.

A small subset of FACI members may be required to adhere to the conflict of interest rules applicable to Special Government Employees as such employees are defined in 18 U.S.C. 202(a). These rules include relevant provisions in 18 U.S.C. related to criminal activity, Standards of Ethical Conduct for Employees of the Executive Branch (5 CFR part 2635), and Executive Order 12674 (as modified by Executive Order 12731).

In accordance with Department of Treasury Directive 21-03, candidates for appointment to FACI are subject to a clearance process, including fingerprinting, annual tax checks, and a Federal Bureau of Investigation criminal check. All FACI candidates must agree to submit to these pre-appointment checks.

The deadline for submitting expressions of interest is September 30, 2023. Submissions may be sent by email to FACI@treasury.gov or by mail to: The Federal Insurance Office, Department of the Treasury, 1500 Pennsylvania Avenue NW, Washington, DC 20220-0002, Attention: FACI.

Steven Seitz,
Director, Federal Insurance Office.

[FR Doc. 2023-17677 Filed 8-16-23; 8:45 am]

BILLING CODE 4810-25-P